DEPARTMENT OF HEALTH AND HUMAN SERVICES

National Institutes of Health

National Library of Medicine; Notice of Meeting

Pursuant to section 1009 of the Federal Advisory Committee Act, as amended, notice is hereby given of a meeting of the Board of Regents of the National Library of Medicine.

The meeting will be held as a virtual meeting and will be open to the public as indicated below. Individuals who plan to view the virtual meeting and need special assistance, such as sign language interpretation or other reasonable accommodations to view the meeting, should notify the Contact Person listed below in advance of the meeting. The meeting can be accessed from the NIH Videocast website at the following link: https://videocast.nih.gov/.

The meeting will be closed to the public in accordance with the provisions set forth in sections 552b(c)(4) and 552b(c)(6), Title 5 U.S.C., as amended. The grant applications and the discussions could disclose confidential trade secrets or commercial property such as patentable materials, and personal information concerning individuals associated with the grant applications, the disclosure of which would constitute a clearly unwarranted invasion of personal privacy.

Name of Committee: Board of Regents of the National Library of Medicine.

Date: July 8, 2025.

Open: July 8, 2025, 10:00 a.m. to 12:00 p.m.

Agenda: Program Discussion.

Place: National Library of Medicine, 8600 Rockville Pike, Bethesda, MD 20892.

Meeting Format: Virtual Meeting.

Closed: July 8, 2025, 12:00 p.m. to 12:30 p.m.

Agenda: To review and evaluate grant applications.

Contact Person: Sarah Edwards, Writer/Editor, Office of the Director, National Library of Medicine, National Institutes of Health, Building 38A, Room 7S710, Bethesda, MD 20892, 301-827-3118, sarah.edwards@nih.gov.

Any member of the public may submit written comments no later than 15 days in advance of the meeting. Any interested person may file written comments with the committee by forwarding the statement to the Contact Person listed on this notice. The statement should include the name, address, telephone number and when applicable, the business or professional affiliation of the interested person.

Information is also available on the Institute's/Center's home page: www.nlm.nih.gov/od/bor/bor.html where additional information for the meeting will be posted when available.

(Catalogue of Federal Domestic Assistance Program No. 93.879, Medical Library Assistance, National Institutes of Health, HHS).

Dated: April 8, 2025.
Melanie J. Pantoja,
Program Analyst, Office of Federal Advisory Committee Policy.

[FR Doc. 2025-06282 Filed 4-11-25; 8:45 am]

BILLING CODE 4140-01-P